DEPARTMENT OF COMMERCE

International Trade Administration

[C-570-938]

Citric Acid and Certain Citrate Salts From People's Republic of China: Extension of Time Limit for the Preliminary Results of the Countervailing Duty Administrative Review

AGENCY: Import Administration, International Trade Administration, Department of Commerce

DATES: Effective Date: January 14, 2011.

FOR FURTHER INFORMATION CONTACT: Seth Isenberg or Patricia Tran, AD/CVD Operations, Office 1, Import Administration, U.S. Department of Commerce, 14th Street and Constitution Avenue, NW., Washington, DC 20230; telephone (202) 482-0588 and (202) 482-1503, respectively.

SUPPLEMENTARY INFORMATION:

Background

On June 30, 2010, the U.S. Department of Commerce (“Department”) published a notice of initiation of administrative review of the countervailing duty order on citric acid and certain citrate salts from the People's Republic of China, covering the period September 19, 2008, through December 31, 2009. See Initiation of Antidumping and Countervailing Duty Administrative Reviews and Requests for Revocation in Part, 75 FR 37759 (June 30, 2010). The preliminary results of this administrative review are currently due no later than January 31, 2011.

Statutory Time Limits

Section 751(a)(3)(A) of the Tariff Act of 1930, as amended (“the Act”), requires the Department to issue the preliminary results of an administrative review within 245 days after the last day of the anniversary month of a countervailing duty order for which a review is requested and issue the final results within 120 days after the date on which the preliminary results are published. However, if it is not practicable to complete the review within the time period, section 751(a)(3)(A) of the Act allows the Department to extend these deadlines to a maximum of 365 days and 180 days, respectively.

Extension of Time Limit for Preliminary Results

Due to the complexity of the issues in this case, such as new subsidy allegations and comments on those allegations, the Department requires additional time to review and analyze the respondents' submitted information and to issue supplemental questionnaires. Thus, it is not practicable to complete the preliminary results of this review within the original time limit (i.e., January 31, 2011). Therefore, the Department is extending the time limit for completion of the preliminary results by 120 days to no later than May 31, 2011, in accordance with section 751(a)(3)(A) of the Act.

This notice is issued and published in accordance with sections 751(a)(3)(A) and 777(i)(1) of the Act.

Dated: January 10, 2011.
Christian Marsh,
Deputy Assistant Secretary for Antidumping and Countervailing Duty Operations.

[FR Doc. 2011-792 Filed 1-13-11; 8:45 am]

BILLING CODE 3510-DS-P